DEPARTMENT OF THE INTERIOR

Office of the Secretary

[156D0102DM DLSN0000.000000 DS62400000 DX62401]

Proposed Renewal of Information Collection: OMB Control Number 1084-0010, Claim for Relocation Payments—Residential, DI-381 and Claim for Relocation Payments—Nonresidential, DI-382

AGENCY: Office of the Secretary, Office of Acquisition and Property Management, Interior.

ACTION: Notice and request for comments.

SUMMARY: In compliance with section 3506(c)(2)(A) of the Paperwork Reduction Act of 1995, the Office of Acquisition and Property Management announces the proposed extension of a public information collection and seeks public comments on the provisions thereof.

DATES: Consideration will be given to all comments received by June 8, 2015.

ADDRESSES: Send your written comments to Mary Heying, Department of the Interior, Office of Acquisition and Property Management, 1849 C St. NW., MS 4262 MIB, Washington, DC 20240, fax (202) 513-7645 or by email to mary_heying@ios.doi.gov.

FOR FURTHER INFORMATION CONTACT: Requests for additional information on this proposed information collection or its Relocation Forms should be directed to the contact information provided in the ADDRESSES section above.

SUPPLEMENTARY INFORMATION:

I. Abstract

This notice is for renewal of an existing information collection.

The Office of Management and Budget (OMB) regulations at 5 CFR part 1320, which implement the Paperwork Reduction Act of 1995, 44 U.S.C. 3501 et seq., require that interested members of the public and affected agencies have an opportunity to comment on information collection and recordkeeping activities (see 5 CFR 1320.8 (d)).

This notice identifies an information collection activity that the Office of Acquisition and Property Management will submit to OMB for extension or re-approval. Public law 91-646, Uniform Relocation Assistance and Real Property Acquisition Policies Act of 1970, as amended, requires each Federal agency acquiring real estate interests to provide relocation benefits to individuals and businesses displaced as a result of the acquisition. Form DI-381, Claim For Relocation Payments—Residential, and DI-382, Claim For Relocation Payments—Nonresidential, permit the applicant to present allowable moving expenses and certify occupancy status, after having been displaced because of Federal acquisition of their real property.

II. Data

(1) Title: Claim for Relocation Payments—Residential, DI-381 and Claim for Relocation Payments—Nonresidential, DI-382.

OMB Control Number: 1084-0010.

Current Expiration Date: September 30, 2015.

Type of Review: Information Collection: Renewal.

Affected Entities: Individuals and businesses who are displaced because of Federal acquisitions of their real property.

Bureau Form Numbers: DI-381, DI-382.

(2) Annual reporting and recordkeeping burden:

Total annual reporting per response: 50 minutes.

Estimated Number of Annual Responses: 24.

Frequency of Response: Once per relocation.

Total Annual Burden Hours: 20 hours.

(3) Description of the need and use of the information: The information required is obtained through application made by the displaced person or business to the funding agency for determination as to the specific amount of monies due under the law. The forms, through which application is made, require specific information since the Uniform Relocation Assistance and Real Property Acquisition Act allows for various amounts based upon each actual circumstance. Failure to make application to the agency would eliminate any basis for payment of claims.

III. Request for Comments

The Departments invite comments on:

(a) Whether the collection of information is necessary for the proper performance of the functions of the agencies, including whether the information will have practical utility;

(b) The accuracy of the agencies' estimate of the burden of the collection of information and the validity of the methodology and assumptions used;

(c) Ways to enhance the quality, utility, and clarity of the information to be collected; and

(d) Ways to minimize the burden of the collection of information on respondents, including through the use of appropriate automated, electronic, mechanical, or other collection techniques or other forms of information technology.

“Burden” means the total time, effort, and financial resources expended by persons to generate, maintain, retain, disclose, or provide information to or for a Federal agency. This includes the time needed to review instructions; to develop, acquire, install, and use technology and systems for the purposes of collecting, validating, and verifying information, processing and maintaining information, and disclosing and providing information; to train personnel and to be able to respond to a collection of information, to search data sources, and to complete and review the collection of information; and to transmit or otherwise disclose the information.

All written comments, with names and addresses, will be available for public inspection. If you wish us to withhold your personal information, you must prominently state at the beginning of your comment what personal information you want us to withhold. We will honor your request to the extent allowable by law. If you wish to view any comments received, you may do so by using the contact information provided in the ADDRESSES section above.

Comments submitted in response to this notice will be summarized and/or included in the request for OMB approval of this information collection; they also will become a matter of public record.

An agency may not conduct or sponsor, and a person is not required to respond to, a collection of information unless it displays a currently valid Office of Management and Budget control number.

Dated: March 25, 2015.
Debra E. Sonderman,
Director, Office of Acquisition and Property Management.

[FR Doc. 2015-08000 Filed 4-7-15; 8:45 am]

BILLING CODE 4334-63-P